DEPARTMENT OF AGRICULTURE

Federal Crop Insurance Corporation

Farm Service Agency

[Docket No. FCIC-14-0006]

Notice of Request for Renewal and Revision of the Currently Approved Information Collection

AGENCY: Risk Management Agency and Farm Service Agency, USDA.

ACTION: Renewal and revision of the currently approved information collection.

SUMMARY: In accordance with the Paperwork Reduction Act of 1995, the Farm Service Agency (FSA) and Risk Management Agency (RMA) are requesting comments from all interested individuals and organizations on a revision of a currently approved paperwork package associated with the Acreage and Crop Reporting Streamlining Initiative (ACRSI).

DATES: Written comments on this notice will be accepted until close of business December 30, 2014.

ADDRESSES: FCIC prefers that comments be submitted electronically through the Federal eRulemaking Portal. You may submit comments, identified by Docket ID No. FCIC-14-0006, by any of the following methods:

• Federal eRulemaking Portal: http://www.regulations.gov. Follow the instructions for submitting comments.

• Mail: Todd Anderson, United States Department of Agriculture, Farm Service Agency, DAFP, PECD, Washington, DC 20250-0570; or Richard Anderson, Risk Management Agency, United States Department of Agriculture, P.O. Box 419205, Kansas City, MO 64133-6205.

All comments received, including those received by mail, will be posted without change to http://www.regulations.gov, including any personal information provided, and can be accessed by the public. All comments must include the agency name and docket number or Regulatory Information Number (RIN) for this rule. For detailed instructions on submitting comments and additional information, see http://www.regulations.gov. If you are submitting comments electronically through the Federal eRulemaking Portal and want to attach a document, we ask that it be in a text-based format. If you want to attach a document that is a scanned Adobe PDF file, it must be scanned as text and not as an image, thus allowing FCIC to search and copy certain portions of your submissions. For questions regarding attaching a document that is a scanned Adobe PDF file, please contact the RMA Web Content Team at (816) 823-4694 or by email at rmaweb.content@rma.usda.gov.

Privacy Act: Anyone is able to search the electronic form of all comments received for any dockets by the name of the individual submitting the comment (or signing the comment, if submitted on behalf of an association, business, labor union, etc.). You may review the complete User Notice and Privacy Notice for Regulations.gov at http://www.regulations.gov/#!privacyNotice.

FOR FURTHER INFORMATION CONTACT: Todd Anderson, United States Department of Agriculture, Farm Service Agency, DAFP, PECD, Washington, DC 20250-0570, (202) 720-9106; or Richard Anderson, Risk Management Agency, United States Department of Agriculture, P.O. Box 419205, Kansas City, MO 64133-6205, (816) 926-3950.

SUPPLEMENTARY INFORMATION: Title: Acreage and Crop Reporting Streamlining Initiative (ACRSI).

OMB Number: 0563-0084.

Expiration Date of Approval: March 31, 2015.

Type of Request: Extension with a revision of a currently approved information collection.

Abstract: FCIC is proposing to renew and revise the currently approved information collection, OMB Number 0563-0084. It is currently up for renewal and extension for three years. The Farm Service Agency (FSA) and Risk Management Agency (RMA) are requesting comments from all interested individuals and organizations on the revised and currently approved information collection request associated with the Acreage and Crop Reporting Streamlining Initiative (ACRSI). ACRSI is an initiative in this information collection request to reengineer the procedures, processes, and standards to simplify commodity, acreage, and production reporting by producers, eliminate or minimize duplication of information collection by multiple agencies, and reduce the burden on producers, allowing the producers to report this information through FSA county office service centers, insurance agents or through precision ag technology capabilities. FSA and RMA are implementing a single source reporting solution to establish a single data collection and reporting capability that supports USDA's programs.

FSA and RMA are also improving the existing Office of Management and Budget (OMB) approved information collections for FSA and RMA, 0560-0004, Report of Acreage, and 0563-0053, Multiple Peril Crop Insurance, acreage, and production information is generally collected from the respondent during a personal visit to the FSA Service Center and again from the respondent during a personal visit to the insurance agent. The forms will still be available to accommodate respondents with no Internet access and those who wish to continue to personally visit the FSA Service Center and insurance agent to report the information. When the single source reporting solution is fully implemented, respondents will be allowed to report the information once.

The information will also be shared by both FSA and RMA, as well as other USDA agencies, such as NRCS and NASS that have the authority and need for such information. In each phase of system implementation, some or all of the commodity, acreage, and production information in the existing approved information collections will be reported through this solution. Furthermore, the information collected will be the same as the information currently approved. Additionally, the respondent will only have to report it one time through a single source thereby reducing the respondent's burden of reporting such information and eliminating the duplicate reporting that may be currently required. The information will then be shared with the other agency without having the producer personally visit both offices. The information collected will be the same as the information currently approved and will be used in the same manner it would be used if reported separately to each agency. FSA and RMA anticipate that producers will be able to use their precision-ag systems, farm management information systems, or download data files to directly report commodity, acreage, and production information needed to participate in USDA programs. The information being collected will consist of, but not be limited to: Producer name, location state, commodity name, commodity type or variety, location county, date planted, land location (legal description, FSA farm number, FSA track number, FSA field number), intended use, prevented planting acres, acres planted but failed, planted acres, and production of commodity produced.

FSA and RMA will implement the ACRSI Initiative in phases until fully implemented. The first phase was initiated in the fall of 2011 in Dickenson, Marion, McPherson, and Saline Counties in Kansas, and only for the collection of information from producers regarding winter wheat. The second phase will be implemented in the spring of 2015 in selected counties in Illinois and Iowa for selected commodities. To ensure statutory criteria are met for both Federal crop insurance programs, FSA, and Commodity Credit Corporation (CCC) programs, the collection of commodity, acreage, and production information is necessary.

The existing approved information collections will be updated, modified or eliminated, as applicable, to reflect the reduction in burden on the respondents when the solution is fully implemented.

Respondents: Producers.

Estimated Annual Number of Respondents Utilizing the Web-Based Single Source Reporting System: 204,250.

Estimated Annual Number of Respondents Reporting the Information by Personally Visiting One Agency and Sharing Information Between Agencies: 62,005.

Estimated Annual Number of Responses per Respondent: 1.5.

Estimated Total Annual Burden on Respondents Utilizing the Web-Based Single Source Reporting System: 230,287 hours. (This estimated public reporting burden is from the existing OMB approved information collections 0560-0004.)

Estimated Total Annual Burden on Respondents Reporting the Information by Personally Visiting One Agency and Having That Information Sharing Information Between Agencies: 131,761 hours. (This estimated public reporting burden is from the existing OMB approved information collections 0560-0004, including the estimated burden for travel time.)

We are requesting comments on all aspects of this information collection to help us to:

(1) Evaluate whether the collection of information is necessary for the proper performance of the functions of the agencies, including whether the information will have practical utility;

(2) Evaluate the accuracy of the agency's estimate of burden including the validity of the methodology and assumptions used;

(3) Enhance the quality, utility and clarity of the information to be collected;

(4) Minimize the burden of the collection of information on those who are to respond through use of appropriate automated, electronic, mechanical, or other technological collection techniques or other forms to technology.

All comments in response to this notice, including names and addresses when provided, will be a matter of public record. Comments will be summarized and included in the request for Office of Management and Budget (OMB) approval.

Signed on October 27, 2014.
Michael T. Scuse,
Under Secretary, Farm and Foreign Agricultural Services.

[FR Doc. 2014-25904 Filed 10-30-14; 8:45 am]

BILLING CODE 3410-08-P